POSTAL SERVICE

Sunshine Act Meeting; Board of Governors

DATES AND TIMES: Thursday, June 14, 2012, at 10 a.m.

PLACE: Washington, DC, at U.S. Postal Service Headquarters, 475 L'Enfant Plaza SW., in the Benjamin Franklin Room.

STATUS: Closed.

MATTERS TO BE CONSIDERED:

Thursday, June 14, at 10:00 a.m. (Closed)

1. Strategic Issues.

2. Financial Matters.

3. Pricing.

4. Personnel Matters and Compensation Issues.

5. Governors' Executive Session—Discussion of prior agenda items and Board Governance.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2012-13377 Filed 5-29-12; 4:15 pm]

BILLING CODE 7710-12-P